DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301)443-7978.

National Cross-Site Assessment of the Addiction Technology Transfer Centers Network—(New)

The Substance Abuse and Mental Health Administration's (SAMHSA) Center for Substance Abuse Treatment (CSAT) intends to conduct an assessment of its Addiction Technology Transfer Centers (ATTCs). The goal underlying the training and education opportunities provided through the ATTCs is to enhance the competencies of professionals in a variety of disciplines to address the clinical needs of individuals with substance abuse problems using research-based curricula and training materials through both traditional and non-traditional technologies.

The ATTCs disseminate current health services research from the National Institute on Drug Abuse, National Institute on Alcohol Abuse and Alcoholism, National Institute of Mental Health, Agency for Health Care Policy and Research, National Institute of Justice, and other sources and applied knowledge development activities from SAMHSA using innovative technologies by developing and updating state-of-the-art research-based curricula and developing faculty and trainers. Participants in ATTC training events are self-identified and participate in either academic courses or continuing education/professional development training events. Academic courses are offered at all levels. Continuing education/professional development training is designed to meet identified needs of counselors and other professionals who work with individuals with substance abuse problems.

Both a process and an outcome assessment will be conducted. The process component will describe the training and education needs of pre-service and currently practicing professionals, the types of training events that students/trainees receive through the ATTCs, and student/trainee satisfaction with services. The outcome component will focus on changes in clinical practice made by trainees as a result of knowledge received.

Analysis of this information will assist CSAT in documenting the numbers and types of participants in ATTC education/training offerings, describing the extent to which participants improve in their clinical competency, and which method is most effective in disseminating knowledge to the various audiences. This type of information is crucial to support CSAT in complying with GPRA reporting requirements and will inform future development of knowledge dissemination activities.

The study design for students and trainees will include a description of each course/training event, and a pre-post design that collects identical information at initiation of ATTC courses/trainings, at the completion of the course/training, and again after 3 months. This time frame is necessary to allow students/trainees the opportunity to implement changes in clinical practice. In addition, the study will collect satisfaction measures after each course/training event.

The chart below summarizes the annualized burden for this project.

Respondent type | Number of respondents | Average responses/ respondent | Average time/ response (hours) | Annual burden (hours)
Students/trainees | 12,000 | 4 | .52 | 6,240
Faculty/trainers | 195 | 1 | .25 | 49
ATTC summary reports | 13 | 4 | 2.00 | 104
Total | 12,208 |  |  | 6,393

Written comments and recommendations concerning the proposed information collection should be sent within 30 days of this notice to: SAMHSA Desk Officer, Human Resources and Housing Branch, Office of Management and Budget, New Executive Office Building, Room 10235, Washington, D.C. 20503.

Dated: July 16, 2000.
Richard Kopanda,
Executive Officer, SAMHSA.

[FR Doc. 00-18484 Filed 7-20-00; 8:45 am]

BILLING CODE 4162-20-P